DEPARTMENT OF HOUSING AND URBAN DEVELOPMENT

Office of Federal Housing Enterprise Oversight

Privacy Act of 1974: Systems of Records

AGENCY: Office of Federal Housing Enterprise Oversight, HUD.

ACTION: Notice of new system of records.

SUMMARY: In accordance with the Privacy Act of 1974, as amended, 5 U.S.C. 552a (Privacy Act), the Office of Federal Housing Enterprise Oversight (OFHEO) is issuing public notice of its intent to establish a new Privacy Act system of records. The new system is titled Telecommunications System.

The records in this system will be used to verify OFHEO's telecommunications usage and to resolve billing discrepancies. The records may also be used to identify unofficial telecommunications use. The purpose and effect of this system is to facilitate management of telecommunications devices; to analyze use detail information for verifying telecommunication device usage; to determine responsibility for use of telecommunications including placement of specific local and long distance calls; to prevent and detect the misuse of telecommunication resources; and to serve as the basis for appropriate disciplinary action in the event those resources have been misused.

DATES: Written comments must be received before August 10, 2006. The proposed new system of records will become effective on August 21, 2006 unless OFHEO receives comments that would result in changes.

ADDRESSES: You may submit your comments on the proposed new Privacy Act system of records, identified by “Telecommunications System”, by any of the following methods:

• U.S. Mail, United Parcel Post, Federal Express, or Other Mail Service: The mailing address for comments is: Alfred M. Pollard, General Counsel, Attention: Comments/System of Records, Office of Federal Housing Enterprise Oversight, Fourth Floor, 1700 G Street, NW., Washington, DC 20552.

• Hand Delivery/Courier: The hand delivery address is: Alfred M. Pollard, General Counsel, Attention: Comments/“Telecommunications System”, Office of Federal Housing Enterprise Oversight, Fourth Floor, 1700 G Street, NW., Washington, DC 20552. The package should be logged at the Guard Desk, First Floor, on business days between 9 a.m. and 5 p.m.

• E-mail: RegComments@OFHEO.gov. The e-mail address is: RegComments@OFHEO.gov. Please include “Telecommunications System” in the subject line of the message.

FOR FURTHER INFORMATION CONTACT: Mary Alice Donner, Senior Counsel, telephone 202-343-1319 (not a toll-free number); Office of Federal Housing Enterprise Oversight, Fourth Floor, 1700 G Street, NW., Washington, DC 20552. The telephone number for the Deaf is (800) 877-8339.

SUPPLEMENTARY INFORMATION: This notice informs the public that OFHEO proposes to establish and maintain a new system of records. This notice satisfies the Privacy Act requirement that an agency publish a system of records notice in the Federal Register when there is an addition to the agency's system of records. As required by 5 U.S.C. 552a(r) of the Privacy Act, and pursuant to paragraph 4c of Appendix I to OMB Circular No. A-130, “Federal Agency Responsibilities for Maintaining Records about Individuals,” (February 8, 1996), OFHEO has submitted a report describing the new systems of records covered by this notice to the House Committee on Government Reform, the Senate Committee on Homeland Security and Governmental Affairs, and the Office of Management and Budget.

Comments: OFHEO seeks public comments on the proposed new system. Comments should include the reference “Telecommunications System” as well as your name and other contact information in the body of your comment. OFHEO further requests that comments submitted in hard copy also be accompanied by the electronic version in Microsoft® Word or in portable document format (PDF) on 3.5″ disk or CD-ROM.

Copies of all comments received will be posted without change on the OFHEO Internet Web site at http://www.ofheo.gov, including any personal information provided. Copies of all comments received will be available for examination by the public on business days between the hours of 10 a.m. and 3 p.m., at the Office of Federal Housing Enterprise Oversight, Fourth Floor, 1700 G Street, NW., Washington, DC 20552. To make an appointment to inspect comments, please call the Office of General Counsel at (202) 414-6924.

Dated: June 29, 2006.
James B. Lockhart III,
Director.

OFHEO-09

SYSTEM NAME:

Telecommunications System.

SYSTEM LOCATION:

The Telecommunications System is located in the Office of Federal Housing Enterprise Oversight, 1700 G Street, NW., Fourth Floor, Washington, DC 20552, and any alternate work site utilized by employees of the Office of Federal Housing Enterprise Oversight (OFHEO) or individuals assisting such employees.

CATEGORIES OF INDIVIDUALS COVERED BY THE SYSTEM:

The Telecommunications System contains information about individuals, including employees and contractors of OFHEO, who use or are assigned OFHEO telecommunications devices, including telephones, cell phones, wireless devices including wireless hand-held devices, and facsimile machines.

CATEGORIES OF RECORDS IN THE SYSTEM:

The Telecommunications System includes records relating to the use of OFHEO telecommunication devices including source, target, duration, and date of telecommunications; records of charges billed to telecommunication devices; records indicating assignment of telecommunication devices to individuals covered by this system and telecommunication device number; and the results of administrative inquiries to determine responsibility for the use or misuse of a telecommunication device or telecommunications resources, including the placement of specific local and long distance calls.

AUTHORITY FOR MAINTENANCE OF THE SYSTEM:

The system is established and maintained pursuant to 12 U.S.C. 4513(b)(9).

PURPOSES:

The records in this system are maintained to facilitate management of telecommunication devices; to analyze use detail information for verifying telecommunication device usage; to determine responsibility for use of telecommunications devices including placement of specific local and long distance calls; to prevent and detect the misuse of telecommunication resources; and to serve as the basis for appropriate disciplinary action in the event those resources have been misused.

ROUTINE USES OF RECORDS MAINTAINED IN THE SYSTEM, INCLUDING CATEGORIES OF USERS AND THE PURPOSES OF SUCH USES:

In addition to the conditions of disclosure under 5 U.S.C. 552a(b) and in addition to the general routine uses identified in the Prefatory Statement of General Routine Uses, 63 FR 9007 (February 23, 1998), OFHEO staff may provide information in these records:

(1) To a consultant, person, or entity, including a supplier who provides telecommunication services to OFHEO under contract or subcontract, to the extent necessary for the performance of the contract or subcontract, or to investigate or detect possible misuse of the telecommunications device or resources. The recipient of the records shall be required to comply with the requirements of the Privacy Act of 1974, as amended (5 U.S.C. 552a).

(2) To OFHEO employees or other persons to determine their individual responsibility for telecommunication device or resource usage.

(3) To the General Services Administration and the National Archives and Records Administration for the purpose of records management inspections conducted under statutory authority of 44 U.S.C. 2904 and 2906.

DISCLOSURE TO CONSUMER REPORTING AGENCIES:

Disclosures may be made from this system pursuant to 552a(b)(12) to consumer reporting agencies as defined in the Fair Credit Reporting Act (15 U.S.C. 1681a(f)), and in accordance with 31 U.S.C. 3711(e).

POLICIES AND PRACTICES FOR STORING, RETRIEVING, ACCESSING, RETAINING, AND DISPOSING OF RECORDS IN THE SYSTEM:

STORAGE:

Records are stored in electronic and paper format. Paper records are maintained in file folders, index cards, rolodex-type files, notebooks, or files. Computer files are maintained on magnetic tape, diskette, or other machine readable format.

RETRIEVABILITY:

Records are retrievable by name, title, address, device number, or other personal identifier listed under “Categories of Records in the System.”

SAFEGUARDS:

The system is located in a guarded building that has restricted access. Access to the computer facilities and any paper records is subject to additional physical safeguards that restrict access. Access to any electronic records in the system is restricted by means of passwords and non-transferable identifiers. Back-up magnetic tapes are kept in an off-site storage facility. Records in hard copy are maintained in locked file cabinets. Access is limited to those individuals who have an official need to know.

RETENTION AND DISPOSAL:

Records are retained and disposed of in accordance with the National Archives and Records Administration General Records Schedule 12. Obsolete paper records are disposed of by shredding or tearing. Obsolete electronic records are deleted, erased or overwritten.

SYSTEM MANAGER AND ADDRESS:

Executive Director, Office of Federal Housing Enterprise Oversight, 1700 G Street, NW., Washington, DC 20552.

NOTIFICATION PROCEDURE:

Contact the Privacy Act Officer, Office of Federal Housing Enterprise Oversight, 1700 G Street, NW., Fourth Floor, Washington, DC 20552.

RECORD ACCESS PROCEDURE:

The OFHEO regulation for providing access to records appears at 12 CFR part 1702. If additional information or assistance is required, contact the Privacy Act Officer, Office of Federal Housing Enterprise Oversight, 1700 G Street, NW., Fourth Floor, Washington, DC 20552.

CONTESTING RECORD PROCEDURES:

The OFHEO regulation for contesting records procedures appears at 12 CFR part 1702. If additional information or assistance is required, contact the Privacy Act Appeals Officer, Office of Federal Housing Enterprise Oversight, 1700 G Street, NW., Fourth Floor, Washington, DC 20552.

RECORD SOURCE CATEGORIES:

The information contained in these records is provided by the individual who is the subject of the record, the individual's supervisors or other official OFHEO personnel, OFHEO telecommunication device assignment records, or call detail reports or bills for telecommunications services provided by suppliers of those services.

EXEMPTIONS CLAIMED FOR THE SYSTEM:

None.

[FR Doc. E6-10847 Filed 7-10-06; 8:45 am]

BILLING CODE 4220-01-P